FARM CREDIT ADMINISTRATION

Sunshine Act Meeting, Notice

AGENCY: Farm Credit Administration.

SUMMARY: Notice is hereby given, pursuant to the Government in the Sunshine Act (5 U.S.C. 552b(e)(3)), that the June 13, 2002 regular meeting of the Farm Credit Administration Board (Board) will not be held. The FCA Board will hold a special meeting at 9:00 a.m. on Thursday, June 6, 2002. An agenda for this meeting will be published at a later date.

FOR FURTHER INFORMATION CONTACT: Kelly Mikel Williams, Secretary to the Farm Credit Administration Board, (703) 883-4024, TDD (703) 883-4444.

ADDRESSES: Farm Credit Administration, 1501 Farm Credit Drive, McLean, Virginia 22102-5090.

Dated: May 3, 2002.
Kelly Mikel Williams,
Secretary, Farm Credit Administration Board.

[FR Doc. 02-11396 Filed 5-7-02; 11:52 am]

BILLING CODE 6705-01-P